DEPARTMENT OF THE INTERIOR

Bureau of Land Management

[WY-100-05-1310-DB]

Notice of Availability of Supplemental Air Quality Information for the Draft Environmental Impact Statement for Jonah Infill Drilling Project, Pinedale, Wyoming

AGENCY: Bureau of Land Management, Interior.

ACTION: Notice of availability of supplemental information and its public review period

SUMMARY: The Bureau of Land Management (BLM) announces the availability of supplemental air quality analyses and information prepared for the Draft Environmental Impact Statement (DEIS) for the Jonah Infill Drilling Project (JIDP), Sublette County, Wyoming. The supplemental information will be available to the public for a 60-day review and comment period.

DATES: The supplemental air quality information will be available for review for 60 calendar days starting on the date this notice is published in the Federal Register. The BLM can best use your comments within this 60-day review period.

ADDRESSES: A copy of the supplemental air quality information is available for public inspection during regular business hours (8 a.m. to 4:30 p.m., Monday through Friday) at the following BLM office locations:

• Bureau of Land Management, Wyoming State Office, 5353 Yellowstone Road, Cheyenne, Wyoming.

• Bureau of Land Management, Pinedale Field Office, 432 East Mill Street, Pinedale, Wyoming.

The document may be available electronically on the following Web site: http://www.wy.blm.gov/nepa/nepadocs.htm. If you wish to review the information electronically, please check with the Pinedale Field Office as to the availability of BLM Internet documents.

FOR FURTHER INFORMATION CONTACT: For information regarding the JIDP DEIS, contact Carol Kruse, Project Manager, Pinedale Field Office, 432 E. Mill Street, P.O. Box 768, Pinedale, Wyoming 82941. For technical air quality information contact Susan Caplan, Meteorologist, BLM, Wyoming State Office, 5353 Yellowstone Road, Cheyenne, Wyoming 82009. Ms. Kruse and Ms. Caplan may be contacted by telephone at (307) 367-5352 and (307) 775-6113, respectively.

SUPPLEMENTARY INFORMATION: On February 11, 2005, the BLM published in the Federal Register a Notice of Availability of a DEIS for the JIDP for public review and comment. On April 12, 2005, the BLM published notification in the Federal Register of its intent to prepare supplemental air quality information for the JIDP DEIS. Until the analyses and supplemental information were completed, the public was provided with additional time to submit comments on the air quality information contained in the DEIS. The analyses have been completed and the supplemental air quality information is now available for review.

A summary of the supplemental air quality information has been sent to affected Federal, State, and local government agencies and to interested parties. A copy of the full report is available from the Pinedale Field Office upon request.

How To Submit Comments

The BLM welcomes your comments on the supplemental air quality information prepared for the JIDP DEIS. The BLM asks that your comments specifically reference page number and paragraph in the report, where possible. Comments that contain only opinions or preferences will not receive a formal response; they will, however, be considered and included as part of the BLM decisionmaking process.

Written comments may be mailed directly or delivered to the BLM at: Jonah Infill Drilling Project DEIS, Project Manager, Bureau of Land Management, Pinedale Field Office, 432 East Mill Street, P.O. Box 768, Pinedale, Wyoming 82941.

You may also send your comments electronically to WYMail_Jonah_Infill@blm.gov. Please write “Attention: Carol Kruse” in the subject line.

To ensure full consideration by the BLM, all comment submittals must include the commenter's name and street address.

Comments, including the names and street addresses of each respondent, will be available for public review at the Pinedale Field Office during regular business hours, Monday through Friday, except for Federal holidays. You comments may be published as part of the EIS process. Individual respondents may request confidentiality. If you wish to withhold your name or street address, or both, from public review or from disclosure under the Freedom of Information Act, you must state this prominently at the beginning of your written comments. Such requests will be honored to the extent allowed by law. We will not consider anonymous comments. All submissions from organizations or businesses will be made available for public inspection in their entirety.

Dated: June 21, 2005.
Alan L. Kesterke,
Associate State Director.

[FR Doc. 05-15808 Filed 8-8-05; 8:45 am]

BILLING CODE 4310-22-M